NUCLEAR REGULATORY COMMISSION

[Docket No. 50-266]

FPL Energy Point Beach LLC; Notice of Issuance of Amendment to Facility Operating License; and Final Determination of No Significant Hazards Consideration

The U.S. Nuclear Regulatory Commission (Commission) has issued Amendment No. 234 to Renewed Facility Operating License No. DPR-24 issued to FPL Energy Point Beach, LLC (the licensee), which revised the Technical Specifications and License for operation of the Point Beach Nuclear Plant Unit 1 (the facility) located in the Town of Two Creeks, Manitowoc County, Wisconsin. The amendment was effective as of the date of its issuance.

The amendment made a one cycle revision to the Point Beach Nuclear Plant (PBNP) Unit 1 technical specifications (TS). Specifically, TS 5.5.8, “Steam Generator (SG) Program,” and TS 5.6.8, “Steam Generator Tube Inspection Report,” was revised to incorporate an interim alternate repair criterion into the provisions for SG tube repair for use during the Unit 1 2008 fall refueling outage and the subsequent operating cycle.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment and Proposed No Significant Hazards Consideration Determination and Opportunity for Hearing in connection with this action was published in the Federal Register on August 5, 2008 (73 FR 45481). A request for a hearing was filed on August 20, 2008 by Thomas Saporito.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the Safety Evaluation related to this action. Accordingly, as described above, the amendment has been issued and made immediately effective and any hearing will be held after issuance.

The Commission has determined that this amendment satisfies the criteria for categorical exclusion in accordance with 10 CFR 51.22. Therefore, pursuant to 10 CFR 51.22(b), no environmental impact statement or environmental assessment need be prepared for this amendment.

For further details with respect to this action, see the application for amendment dated May 28, 2008, as supplemented by letter dated July 18, 2008, which is available for public inspection at the Commission's PDR, located at One White Flint North, Public File Area O1 F21, 11555 Rockville Pike (first floor), Rockville, Maryland. Publicly available records will be accessible electronically from the Agencywide Documents Access and Management System's (ADAMS) Public Electronic Reading Room on the Internet at the NRC Web site, http://www.nrc.gov/reading-rm/adams.html. Persons who do not have access to ADAMS or who encounter problems in accessing the documents located in ADAMS should contact the NRC PDR Reference staff by telephone at 1-800-397-4209, 301-415-4737, or by e-mail to pdr.resource@nrc.gov.

Dated at Rockville, Maryland, this 24th day of September 2008.
For the Nuclear Regulatory Commission.
Jack Cushing,
Senior Project Manager, Plant Licensing Branch 3-1, Division of Operating Reactor Licensing, Office of Nuclear Reactor Regulation.

[FR Doc. E8-25542 Filed 10-24-08; 8:45 am]

BILLING CODE 7590-01-P